DEPARTMENT OF LABOR

Employment and Training Administration

[TA-W-64,725]

Weather Shield Manufacturing, Inc., Corporate Office, Medford, WI; Notice of Negative Determination Regarding Application for Reconsideration

By application dated May 26, 2009, the petitioners requested administrative reconsideration of the Department's negative determination regarding eligibility for workers and former workers of Weather Shield Manufacturing, Inc., Corporate Office, Medford, Wisconsin (subject firm) to apply for Trade Adjustment Assistance (TAA) and Alternative Trade Adjustment Assistance (ATAA). The Department's Notice of Affirmative Determination Regarding Application for Reconsideration was signed on June 2, 2009, and published in the Federal Register on June 18, 2009 (74 FR 28956).

The initial investigation revealed that workers of the subject firm are engaged in support functions such as administrative, human resources, accounting, sales, and marketing operations. It was also revealed that the workers of the subject firm support production of windows at various Weather Shield Manufacturing facilities. The investigation resulted in a negative determination that was based on the finding that imports of windows did not contribute importantly to worker separations at the subject facility and there was no shift of production to a foreign country. The “contributed importantly” test is generally demonstrated through a survey of the workers' firm's declining domestic customers. The survey of the major declining customers revealed negligible imports of windows in 2008 compared with 2007. The subject firm did not import windows during the relevant period.

A careful review of previously-submitted material shows that one of the facilities supported by workers of the Weather Shield Manufacturing, Inc., Corporate Office in Milford, Wisconsin produced doors. During the reconsideration investigation, the Department conducted additional customer survey regarding purchases of doors (including like or directly competitive articles) during 2007 and 2008. Based on the information obtain through the survey, the Department determined no imports of doors during the relevant period.

The petitioner also alleges that the competitor of the subject firm has been certified for TAA during August 2008 and therefore workers of the subject firm should be also certified for TAA.

The impact of competitors on the subject firm is revealed in an investigation through customer survey analysis. In the case at hand, the Department solicited information from the customers of the subject firm to determine if customers purchased imported windows and doors during 2007 and 2008. The survey is intended to determine if competitor imports contributed importantly to layoffs at the subject firm. The survey revealed that imports of windows and doors were negligible during the relevant period.

The investigation also revealed the subject firm did not import windows and doors nor was there a shift in production of windows and doors from subject firm abroad during the relevant period. Furthermore, U.S. aggregate imports of windows and doors declined from 2007 to 2008.

Based on the information above, the Department determines that the group eligibility requirements under section 222(a) of the Trade Act of 1974, as amended, were not met.

In order for the Department to issue a certification of eligibility to apply for ATAA, the subject worker group must be certified eligible to apply for TAA. Since the subject workers are denied eligibility to apply for TAA, the workers cannot be certified eligible for ATAA.

Conclusion

After reconsideration, I affirm the original notice of negative determination of eligibility to apply for worker adjustment assistance for workers and former workers of Weather Shield Manufacturing, Inc., Corporate Office, Medford, Wisconsin.

Signed at Washington, DC, this 14th day of July 2009.
Elliott S. Kushner,
Certifying Officer, Division of Trade Adjustment Assistance.

[FR Doc. E9-18182 Filed 7-29-09; 8:45 am]

BILLING CODE 4510-FN-P